GENERAL SERVICES ADMINISTRATION

[OMB Control No. 3090-0243]

Submission for OMB Review and Extension; Comment Request Entitled GSAR 516.203-4, Contract Clause and GSAR 552.216-70 Economic Price Adjustment (EPA)

AGENCY: General Services Administration, GSA.

ACTION: Notice of a request for an extension to an existing OMB clearance.

SUMMARY: Under the provisions of the Paperwork Reduction Act of 1995 (44 U.S.C. Chapter 35), the General Services Administration (GSA) has submitted to the Office of Management and Budget (OMB) a request to review and approve an extension of a previously approved information collection requirement concerning the Federal Supply Schedule (FSS) Multiple Award Schedule (MAS) Economic Price Adjustment (EPA) Clause.

Public comments are particularly invited on: Whether the information collection generated by the GSAR Clause, Economic Price Adjustment (EPA) is necessary to determine an offeror's price is fair and reasonable; whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Comments may be submitted on or before October 29, 2001.

FOR FURTHER INFORMATION CONTACT: Julia Wise, Acquisition Policy Division, GSA (202) 208-1168.

ADDRESSES: Comments regarding this burden estimate or any other aspect of this collection of information, including suggestions for reducing this burden, should be submitted to: Edward Springer, GSA Desk Officer, OMB, Room 10236, NEOB, Washington, DC 20503, and a copy to Stephanie Morris, General Services Administration (MVP), 1800 F Street, NW., Room 4035, Washington, DC 20405.

SUPPLEMENTARY INFORMATION:

A. Purpose

The General Services Administration (GSA) has various mission responsibilities related to the acquisition and provision of FSS MAS contracts. These mission responsibilities generate requirements that are realized through the solicitation and award of contracts for various products and services. Individual solicitations and resulting contracts may impose unique information collection and reporting requirements on contractors not required by regulation, but necessary to evaluate particular program accomplishments and measure success in meeting program objectives.

B. Annual Reporting Burden

Respondents: 3,857.

Annual Responses: 5,786.

Burden Hours: 3,857.

Obtaining Copies of Proposals

A copy of this proposal may be obtained from the General Services Administration, Acquisition Policy Division (MVP), 1800 F Street, NW., Room 4035, Washington, DC 20405, or by telephoning (202) 501-4744, or by faxing your request to (202) 501-4067. Please cite OMB Control No. 3090-0243, Contract Clause and Economic Price Adjustment, in all correspondence.

David A. Drabkin,
Deputy Associate Administrator, Office of Acquisition Policy.

[FR Doc. 01-21807 Filed 8-28-01; 8:45 am]

BILLING CODE 6820-61-M